INTERNATIONAL TRADE COMMISSION

[USITC SE-15-042]

Government in the Sunshine Act Meeting Notice

AGENCY HOLDING THE MEETING: United States International Trade Commission

TIME AND DATE: January 5, 2016 at 11:00 a.m.

PLACE: Room 101, 500 E Street SW., Washington, DC 20436, Telephone: (202) 205-2000.

STATUS: Open to the public

MATTERS TO BE CONSIDERED: 1. Agendas for future meetings: none.

2. Minutes.

3. Ratification List.

4. Vote in Inv. Nos. 701-TA-468 and 731-TA-1166-1167 (Review) (Certain Magnesia Carbon Bricks from China and Mexico). The Commission is currently scheduled to complete and file its determinations and views of the Commission on January 15, 2016.

5. Outstanding action jackets: none.

In accordance with Commission policy, subject matter listed above, not disposed of at the scheduled meeting, may be carried over to the agenda of the following meeting.

By order of the Commission.
Issued: December 21, 2015.
William R. Bishop,
Supervisory Hearings and Information Officer.

[FR Doc. 2015-32554 Filed 12-22-15; 11:15 am]

BILLING CODE 7020-02-P